DEPARTMENT OF ENERGY

Federal Energy Regulatory Commission

[Docket No. RP02-68-000]

Midwestern Gas Transmission Company; Notice of Proposed Changes in FERC Gas Tariff

December 5, 2001.

Take notice that on November 30, 2001, Midwestern Gas Transmission Company (Midwestern) tendered for filing to become part of Midwestern's FERC Gas Tariff, Third Revised Volume No. 1, the tariff sheets listed on Appendix A, to become effective January 1, 2002.

Midwestern states that the purpose of this filing is to implement a new rate schedule (Rate Schedule PAL) under which Midwestern will provide a park and loan service. Midwestern is proposing to revise certain currently effective tariff sheets to incorporate the PAL service.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-30562 Filed 12-10-01; 8:45 am]

BILLING CODE 6717-01-P